DEPARTMENT OF AGRICULTURE

Animal and Plant Health Inspection Service

7 CFR Parts 300, 301, 318, 319, and 353

[Docket No. 01-050-1]

Steam Treatment of Golden Nematode-Infested Farm Equipment, Construction Equipment, and Containers

AGENCY: Animal and Plant Health Inspection Service, USDA.

ACTION: Direct final rule.

SUMMARY: We are amending the Plant Protection and Quarantine Treatment Manual, which is incorporated by reference into the Code of Federal Regulations, to allow containers, construction equipment without cabs, and farm equipment without cabs used in golden nematode-infested areas to be treated with steam heat before being moved interstate from any regulated area. This action provides an alternative to fumigation with methyl bromide for treating used containers, construction equipment without cabs, and farm equipment without cabs.

DATES: This rule will be effective on April 26, 2002 unless we receive written adverse comments or written notice of intent to submit adverse comments that are postmarked, delivered, or e-mailed by March 27, 2002. The incorporation by reference provided for by this rule is approved by the Director of the Federal Register as of April 26, 2002.

ADDRESSES: You may submit comments or notice of intent to submit adverse comments by postal mail/commercial delivery or by e-mail. If you use postal mail/commercial delivery, please send four copies (an original and three copies) to: Docket No. 01-050-1, Regulatory Analysis and Development, PPD, APHIS, Station 3C71, 4700 River Road Unit 118, Riverdale, MD 20737-1238. Please state that your comment refers to Docket No. 01-050-1. If you use e-mail, address your comment to regulations@aphis.usda.gov. Your comment must be contained in the body of your message; do not send attached files. Please include your name and address in your message and “Docket No. 01-050-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Vedpal Malik, Agriculturist, Invasive Species and Pest Management, PPQ, APHIS, 4700 River Road Unit 39, Riverdale, MD 20737-1231; (301) 734-6774.

SUPPLEMENTARY INFORMATION:

Background

The golden nematode (Globodera rostochiensis) is a plant pest that is highly destructive to potatoes and other solanaceous plants. The golden nematode has been determined to occur in the United States only in parts of New York.

The golden nematode regulations (contained in 7 CFR 301.85 through 301.85-10 and referred to below as the regulations) list two entire counties and portions of seven other counties in the State of New York as regulated areas and restrict the interstate movement of regulated articles from those areas. Such restrictions are necessary to prevent the artificial spread of the golden nematode to noninfested areas of the United States.

Regulated articles are identified in § 301.85(b). The list of regulated articles includes used mechanized cultivating equipment, used mechanized harvesting equipment, used mechanized soil-moving equipment, used crates, and other used farm products containers. Regulated articles must meet conditions specified in the regulations before they may be moved interstate from a regulated area. One of the conditions for movement is treatment.

The Plant Protection and Quarantine Treatment Manual (PPQ Treatment Manual), which is maintained by the U.S. Department of Agriculture's (USDA) Animal and Plant Health Inspection Service (APHIS), contains approved treatment schedules and is incorporated by reference into the Code of Federal Regulations at 7 CFR 300.1. Currently, fumigation with methyl bromide is the sole treatment available in the PPQ Treatment Manual to qualify used containers, construction equipment, and farm equipment for interstate movement from areas infested with golden nematodes.

Research conducted by APHIS¹ has demonstrated that steam heat effectively eliminates the golden nematode. Steam treatment takes less time than fumigation with methyl bromide—1 hour versus 24 to 48 hours—and commodities can be released to the owner immediately after steam treatment, whereas several hours of aeration are required after methyl bromide fumigation. Steam treatment is not harmful to the environment and is noncorrosive. No special precautions are necessary for the transportation of steam treatment equipment. In addition, steam treatments can be performed at farm or warehouse locations with less stringent safety requirements than those needed for methyl bromide fumigation (e.g., enclosures used for methyl bromide fumigation must be leakproof, and the location must be secured to prevent unauthorized entry and exposure to methyl bromide).

¹ Information concerning this research may be obtained from the person listed under FOR FURTHER INFORMATION CONTACT.

Therefore, we are amending the PPQ Treatment Manual to allow used containers, used construction equipment without cabs, and used farm equipment without cabs to be treated with steam heat before being moved interstate from any regulated area. (Pending further testing, this treatment was not recommended for equipment or vehicles with cabs due to possible damage to electrical or plastic components.) This action provides an alternative to fumigation with methyl bromide for treating used containers, construction equipment, and farm equipment. The treatment procedure we are adding to the PPQ Treatment Manual is described in the following paragraphs.

Treatment Procedure

Administer steam treatment in a tarpaulin or tent using steam generators. The recommended minimum air temperature for steam treatment varies according to the size of the enclosure in which the treatment is conducted. For enclosures 4,000 ft³ or less, the recommended minimum air temperature is 40 °F, and for enclosures 4,000 to 6,000 ft³, the recommended minimum air temperature is 60 °F.

Place the farm equipment or containers inside the tarpaulin or tent so that it faces the front of the enclosure, where the steam will be introduced. If a tarp (6 mil plastic) is used instead of a tent, pad sharp edges of the equipment or containers before covering with the tarp. Place temperature recording sensors on the equipment or containers to be treated.

When the treatment is being conducted in enclosures 4,000 ft³ or less, use at least four temperature recording sensors in addition to the probe on the steam generator. Place probes in hard-to-treat cracks or crevices on the equipment or containers. Position probes in the following locations: (1) Front high—near the top of the front of the equipment or load; (2) center middle—midway from the top and bottom of the center of the equipment or load; (3) center bottom— bottom of the center of the equipment or load, but at least 3 inches above the floor if the equipment is flush with the floor; and (4) rear bottom—bottom of the rear of the equipment, but at least 3 inches above the floor if the equipment is flush with the floor.

When the treatment is being conducted in enclosures 4,000 to 6,000 ft³, use at least eight temperature recording sensors in addition to the probe on the steam generator. Again, place probes in hard-to-treat cracks or crevices on the equipment or containers. Position probes in the following locations: (1) Front high—near the top of the left side of the front of the equipment or load; (2) front low—bottom of the right side of the front of the equipment or load, but at least 3 inches above the floor if the equipment is flush with the floor; (3) center high—near the top of the center of the equipment or load on the right side; (4) center middle—midway from the top and bottom of the center of the equipment or load; (5) center low—bottom of the center of the equipment or load on the left side, but at least 3 inches above the floor if the equipment is flush with the floor; (6) rear high—near the top of the rear of the equipment on the right side; (7) rear middle—midway from the top and bottom of the rear of the equipment; and (8) rear low—bottom of the rear of the equipment or load on the left side, but at least 3 inches above the floor if the equipment is flush with the floor.

Place the steam generator at the front of the enclosure. Close the tent or tarp and place sandsnakes (flexible weights) at the base to seal it. As an airtight seal is not essential for steam treatment; small pinholes are acceptable.

Steam heat the enclosure for 60 minutes after all probes reach a minimum of 140 °F (60 °C). The maximum temperature in the enclosure should not exceed 160 °F (71 °C). Throughout the treatment, record the temperatures at least once every 2 minutes.

Miscellaneous

The scientific name for golden nematode has been changed from Heterodera rostochiensis to Globodera rostochiensis. Therefore, we are amending §§ 301.85(a) and 301.85-1 to reflect that change.

We are also revising the definition for the term treatment manual in § 301.85-1 so that it refers to the PPQ Treatment Manual rather than the “Manual of Administratively Authorized Procedures to be Used Under the Golden Nematode Quarantine” and the “Fumigation Procedures Manual,” which are no longer in use. Revising the definition of treatment manual will eliminate footnote 1, so we are also redesignating the subsequent footnotes in the subpart.

The definitions in § 301.85-1 are no longer assigned paragraph designations and are simply listed in alphabetical order. We are, therefore, amending § 301.85(b) to update a reference to the definition of regulated article.

Finally, we are revising part 300 so that all of the materials incorporated by reference are assigned specific section designations. Accordingly, we are also updating citations to part 300 found elsewhere in title 7.

Dates

We are publishing this rule without a prior proposal because we view this action as noncontroversial and anticipate no adverse public comment. This rule will be effective, as published in this document, on April 26, 2002, unless we receive written adverse comments or written notice of intent to submit adverse comments that are postmarked, delivered, or e-mailed by March 27, 2002.

Adverse comments are comments that suggest the rule should not be adopted or that suggest the rule should be changed.

If we receive written adverse comments or written notice of intent to submit adverse comments, we will publish a document in the Federal Register withdrawing this rule before the effective date. We will then publish a proposed rule for public comment.

As discussed above, if we receive no written adverse comments nor written notice of intent to submit adverse comments that are postmarked, delivered, or e-mailed within 30 days of publication of this direct final rule, this direct final rule will become effective 60 days following its publication. We will publish a document in the Federal Register, before the effective date of this direct final rule, confirming that it is effective on the date indicated in this document.

Executive Order 12866 and Regulatory Flexibility Act

This rule has been reviewed under Executive Order 12866. For this action, the Office of Management and Budget has waived its review process required by Executive Order 12866.

This rule, which allows containers, construction equipment without cabs, and farm equipment without cabs used in golden nematode-infested areas to be treated with steam heat before being moved interstate from any regulated area, provides an alternative to fumigation with methyl bromide.

It is expected that the cost of steam treatment will compare favorably to the cost of methyl bromide fumigation. Treatment costs will continue to be borne by APHIS. A steam generator and related equipment, such as temperature sensors and plastic tarps, costs approximately $20,000. After the initial investment in equipment, most of the cost of treatment is due to personnel costs. It takes one 8-hour day for a Plant Protection and Quarantine (PPQ) officer and a technician to steam treat farm equipment, including the time required to set up and tear down the treatment site.

In contrast, there are higher equipment and personnel costs associated with methyl bromide treatment. The cost of methyl bromide is currently $3.24 per pound. For a 24-hour treatment, 15 lbs of methyl bromide per 1,000 ft ³ is needed, while 7.5 lbs of methyl bromide per 1,000 ft ³ are needed for a 48-hour treatment. PPQ officers must be certified to handle pesticides and must use a self-contained breathing apparatus during the treatment. A self-contained breathing apparatus costs $1,500 plus the cost of periodic maintenance. Air tanks cost $600-$700 and typically last about 3 years.

Personnel costs also would be higher for methyl bromide treatment than for steam treatment. Methyl bromide treatment takes from 24 to 48 hours. If the methyl bromide treatment site is secure, it is not necessary to have a PPQ officer on site during the entire treatment period. However, if the site is not secure, it is not advisable to leave the treatment site unattended.

Table 1 shows costs associated with each treatment option. These calculations assume that one GS-11 PPQ officer and one GS-7 technician would have to stay on site twice as long for methyl bromide treatments as for steam treatments. As noted previously, methyl bromide currently costs $3.24 per pound; these calculations assume that 30 lbs are needed per treatment, which is enough to treat 2,000 ft ³. We estimate that, over the course of 600 treatments, the use of steam treatment rather than methyl bromide would result in savings of $259,920. This is considerably more than the initial cost of the equipment needed for the steam treatment.

Table 1.—Marginal Cost of Steam Treatment vs. Methyl Bromide Treatment
| Steam treatment | Methyl bromide
Labor GS-11, step 5 | $200 ($25/hr × 8 hrs) | $400 ($25/hr × 16 hrs)
Labor GS-7, step 5 | $136 ($17/hr × 8 hrs) | $272 ($17/hr × 16 hrs)
Chemicals | NA | $97.20 ($3.24 × 30 lbs)
Sub-total | $336 | $769.20
Treatments per year | 600 | 600
Total cost | $201,600 | $461,520

Over the past 4 years, an average of 618 pieces of farm equipment per year have been treated. It is expected that, with this rule, most of these treatments will be steam treatments. However, there may still be some cases in which methyl bromide treatment is the preferred method of treatment.

While there are higher initial costs for steam treatment, the marginal cost for each treatment would be lower. Because steam treatment has lower marginal costs, in the long run it will be more economical to use steam treatment than methyl bromide fumigation.

Potato farms are classified as small businesses if they have less than $750,000 in annual receipts. USDA's National Agricultural Statistics Service (NASS) does not publish data by farm size for New York potato farms. However, it is likely that most of the farms affected by this rule would qualify as small businesses, as defined by the U.S. Small Business Administration (SBA).

This rule provides an alternative treatment for farm equipment, construction equipment, and containers used in golden nematode-infested areas. Farmers do not pay for the treatment; the costs are borne by APHIS. This is to encourage farmers to treat equipment before selling or moving it. Farm equipment is often treated when a farm is sold or going out of business, when farmers are unlikely to have the funds available to pay for treatment. Because the cost is not borne by the farmer, this rule will not have an adverse economic impact on these small entities.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects

7 CFR Part 300

Incorporation by reference, Plant diseases and pests, Quarantine.

7 CFR Part 301

Agricultural commodities, Incorporation by reference, Plant diseases and pests, Quarantine, Reporting and recordkeeping requirements, Transportation.

7 CFR Part 318

Cotton, Cottonseeds, Fruits, Guam, Hawaii, Incorporation by reference, Plant diseases and pests, Puerto Rico, Quarantine, Transportation, Vegetables, Virgin Islands.

7 CFR Part 319

Bees, Coffee, Cotton, Fruits, Honey, Imports, Incorporation by reference, Logs, Nursery Stock, Plant diseases and pests, Quarantine, Reporting and recordkeeping requirements, Rice, Vegetables.

7 CFR Part 353

Exports, Incorporation by reference, Plant diseases and pests, Reporting and recordkeeping requirements.

Accordingly, we are amending 7 CFR chapter III as follows:

1. Part 300 is revised to read as follows:

PART 300-INCORPORATION BY REFERENCE

Subpart—Materials Incorporated by Reference

Sec.
300.1 Plant Protection and Quarantine Treatment Manual.
300.2 Dry Kiln Operator's Manual.
300.3 Reference Manual A.
300.4 Reference Manual B.

Authority: 7 U.S.C. 7701-7772; 7 CFR 2.22, 2.80, and 371.3.

§ 300.1 Plant Protection and Quarantine Treatment Manual.

(a) In accordance with 5 U.S.C. 552(a) and 1 CFR part 51, the Director of the Office of the Federal Register has approved for incorporation by reference in 7 CFR chapter III the Plant Protection and Quarantine Treatment Manual, which was reprinted November 30, 1992, and all revisions through May 2000; and:

(1) Treatment T101-n-2 and T102-b, and Table 5-2-5, revised July 2001;

(2) Treatment T102-e, revised July 2001; and

(3) Treatment T406-d, dated January 2002.

(b) The treatments specified in the Plant Protection and Quarantine Treatment Manual and its revisions are required to authorize the movement of certain articles regulated by domestic quarantines (7 CFR parts 301 and 318) and foreign quarantines (7 CFR part 319).

(c) Availability. Copies of the Plant Protection and Quarantine Treatment Manual:

(1) Are available for inspection at the Office of the Federal Register Library, 800 North Capitol Street NW., Suite 700, Washington, DC; or

(2) May be obtained by writing or calling the Animal and Plant Health Inspection Service, Documents Management Branch, Printing Distribution and Mail Section, 4700 River Road Unit 1, Riverdale, MD 20737-1229, (301) 734-5524; or

(3) May be obtained from field offices of the Animal and Plant Health Inspection Service, Plant Protection and Quarantine. Addresses of these offices may be found in local telephone directories.

§ 300.2 Dry Kiln Operator's Manual.

(a) The Dry Kiln Operator's Manual, which was published in August 1991 as Agriculture Handbook No. 188 by the United States Department of Agriculture, Forest Service, has been approved for incorporation by reference in 7 CFR chapter III by the Director of the Office of the Federal Register in accordance with 5 U.S.C. 552(a) and 1 CFR part 51.

(b) The kiln drying schedules specified in the Dry Kiln Operator's Manual provide a method by which certain articles regulated by “Subpart—Logs, Lumber, and Other Unmanufactured Wood Articles” (7 CFR 319.40-1 through 319.40-11) may be imported into the United States.

(c) Availability. Copies of the Dry Kiln Operator's Manual:

(1) Are available for inspection at the Office of the Federal Register Library, 800 North Capitol Street NW., Suite 700, Washington, DC; or

(2) Are for sale as ISBN 0-16-035819-1 by the U.S. Government Printing Office, Superintendent of Documents, Mail Stop: SSOP, Washington, DC 20402-9328.

§ 300.3 Reference Manual A.

(a) The Reference Manual for Administration, Procedures, and Policies of the National Seed Health System, which was published on February 25, 2000, by the National Seed Health System (NSHS), has been approved for incorporation by reference in 7 CFR chapter III by the Director of the Office of the Federal Register in accordance with 5 U.S.C. 552(a) and 1 CFR part 51.

(b) Availability. Copies of Reference Manual A:

(1) Are available for inspection at the Office of the Federal Register Library, 800 North Capitol Street NW., Suite 700, Washington, DC, and the APHIS Library, U.S. Department of Agriculture, 4700 River Road, Riverdale, MD; or

(2) May be obtained by writing to Phytosanitary Issues Management, Operational Support, PPQ, APHIS, 4700 River Road Unit 140, Riverdale, MD 20737-1236; or

(3) May be viewed on the APHIS Web site at http://www.aphis.usda.gov/ppq/pim/accreditation.

§ 300.4 Reference Manual B.

(a) The Reference Manual for Seed Health Testing and Phytosanitary Field Inspection Methods, which was published on February 27, 2001, by the National Seed Health System (NSHS), has been approved for incorporation by reference in 7 CFR chapter III by the Director of the Office of the Federal Register in accordance with 5 U.S.C. 552(a) and 1 CFR part 51.

(b) Availability. Copies of Reference Manual B:

(1) Are available for inspection at the Office of the Federal Register Library, 800 North Capitol Street NW., Suite 700, Washington, DC, and the APHIS Library, U.S. Department of Agriculture, 4700 River Road, Riverdale, MD; or

(2) May be obtained by writing to Phytosanitary Issues Management, Operational Support, PPQ, APHIS, 4700 River Road Unit 140, Riverdale, MD 20737-1236; or

(3) May be viewed on the APHIS Web site at http://www.aphis.usda.gov/ppq/pim/accreditation.

PART 301—DOMESTIC QUARANTINE NOTICES

2. The authority citation for part 301 continues to read as follows:

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

3. In § 301.45-1, footnote 3 is revised to read as follows:

§ 301.45-1 Definitions.

* * * * *

³ The Plant Protection and Quarantine Treatment Manual is incorporated by reference at § 300.1 of this chapter.

4. In § 301.64-10, paragraphs (a) and (f) are amended by revising the first sentence after the paragraph heading to read as follows:

§ 301.64-10 Treatments.

* * * * *

(a) * * * Cold treatment in accordance with the PPQ Treatment Manual, which is incorporated by reference at § 300.1 of this chapter.

* * * * *

(f) * * * Cold treatment in accordance with the PPQ Treatment Manual, which is incorporated by reference at § 300.1 of this chapter, and in accordance with the following schedule:

* * * * *

5. In § 301.78-10, the introductory paragraph is revised to read as follows:

§ 301.78-10 Treatments.

Treatment schedules listed in the Plant Protection and Quarantine Treatment Manual to destroy Mediterranean fruit fly are authorized for use on regulated articles. The Plant Protection and Quarantine Treatment Manual is incorporated by reference at § 300.1 of this chapter. The following treatments may be used for the regulated articles indicated:

* * * * *

6. In § 301.81-4, paragraph (b) is revised to read as follows:

§ 301.81-4 Interstate movement of regulated articles from quarantined areas.

* * * * *

(b) Inspectors are authorized to stop any person or means of conveyance moving in interstate commerce they have probable cause to believe is moving regulated articles, and to inspect the articles being moved and the means of conveyance. Articles found to be infested by an inspector, and articles not in compliance with the regulations in this subpart, may be seized, quarantined, treated, subjected to other remedial measures, destroyed, or otherwise disposed of. Any treatments will be in accordance with the methods and procedures prescribed in the Appendix to this subpart (III. Regulatory Procedures), or in accordance with the methods and procedures prescribed in the Plant Protection and Quarantine Treatment Manual, which is incorporated by reference at § 300.1 of this chapter.

* * * * *

§ 301.85 [Amended]

7. In § 301.85, paragraph (a) is amended by removing the words “(Heterodera rostochiensis)” and adding the words “(Globodera rostochiensis)” in their place and in paragraph (b), the introductory text is amended by removing the citation “§ 301.85-1(q)” and adding the citation “§ 301.85-1” in its place.

8. Section 301.85-1 is amended as follows:

a. In the definition of Golden nematode, by removing the words “(Heterodera rostochiensis)” and adding the words “(Globodera rostochiensis)” in their place.

b. By revising the definition of treatment manual to read as follows.

§ 301.85-1 Definitions.

* * * * *

Treatment manual. The provisions currently contained in the Plant Protection and Quarantine Treatment Manual, which is incorporated by reference at § 300.1 of this chapter.

§ 301.85-2b [Amended]

9. In § 301.85-2b, footnote 2 and its reference in the section heading are redesignated as footnote 1.

§ 301.85-3 [Amended]

10. Section 301.85-3 is amended as follows:

a. Footnote 3 and its reference in the section heading are redesignated as footnote 2.

b. In paragraph (b), footnotes 4 and 5 and their references in the text are redesignated as footnotes 3 and 4, respectively.

11. In § 301.93-10, the introductory paragraph is revised to read as follows:

§ 301.93-10 Treatments.

Treatment schedules listed in the Plant Protection and Quarantine Treatment Manual to destroy the Oriental fruit fly are approved for use on regulated articles. The Plant Protection and Quarantine Treatment Manual is incorporated by reference at § 300.1 of this chapter. The following treatments can be used for bell pepper, citrus and grape, tomato, premises, and soil:

* * * * *

12. In § 301.97-10, the introductory paragraph is revised to read as follows:

§ 301.97-10 Treatments.

Treatment schedules listed in the Plant Protection and Quarantine Treatment Manual to destroy the melon fruit fly are authorized for use on regulated articles. The Plant Protection and Quarantine Treatment Manual is incorporated by reference at § 300.1 of this chapter. The following treatments also may be used for the regulated articles indicated:

* * * * *

13. In § 301.98-10, the introductory paragraph is revised to read as follows:

§ 301.98-10 Treatments.

Treatment schedules listed in the Plant Protection and Quarantine Treatment Manual to destroy the West Indian fruit fly are authorized for use on regulated articles. The Plant Protection and Quarantine Treatment Manual is incorporated by reference at § 300.1 of this chapter. The following treatments also may be used for the regulated articles indicated:

* * * * *

PART 318—HAWAIIAN AND TERRITORIAL QUARANTINE NOTICES

14. The authority citation for part 318 continues to read as follows:

Authority: 7 U.S.C. 7711, 7712, 7714, 7731, 7754, and 7756; 7 CFR 2.22, 2.80, and 371.3.

15. Section 318.13-11 is revised to read as follows:

§ 318.13-11 Disinfection of means of conveyance.

If an inspector, through an inspection pursuant to this subpart, finds that a means of conveyance is infested with or contains plant pests, and the inspector orders disinfection of the means of conveyance, then the person in charge or in possession of the means of conveyance shall disinfect the means of conveyance and its cargo in accordance with an approved method contained in the Plant Protection and Quarantine Treatment Manual under the supervision of an inspector and in a manner prescribed by the inspector, prior to any movement of the means of conveyance or its cargo. The Plant Protection and Quarantine Treatment Manual is incorporated by reference at § 300.1 of this chapter.

16. In § 318.58-4, paragraph (b) is revised to read as follows:

§ 318.58-4 Issuance of certificates or limited permits.

* * * * *

(b) Certification on basis of treatment. Fruits and vegetables designated in § 318.58-2(b) may be certified after undergoing an approved treatment contained in the Plant Protection and Quarantine Treatment Manual under the supervision of an inspector and if the articles are handled after treatment in accordance with all conditions that the inspector requires. The Plant Protection and Quarantine Treatment Manual is incorporated by reference at § 300.1 of this chapter. Treatments shall be applied at the expense of the shipper, owner, or person in charge of the articles. The Department of Agriculture or its inspector will not be responsible for loss or damage resulting from any treatment prescribed or supervised under this subpart.

* * * * *

17. Section 318.58-11 is revised to read as follows:

§ 318.58-11 Disinfection of means of conveyance.

If an inspector, through an inspection pursuant to this subpart, finds that a means of conveyance is infested with or contains any plant pest, and the inspector orders disinfection of the means of conveyance, then the person in charge or in possession of the means of conveyance shall disinfect the means of conveyance and its cargo, in accordance with an approved method contained in the Plant Protection and Quarantine Treatment Manual under the supervision of an inspector and in a manner prescribed by the inspector, prior to any movement of the means of conveyance or its cargo. The Plant Protection and Quarantine Treatment Manual is incorporated by reference at § 300.1 of this chapter.

PART 319—FOREIGN QUARANTINE NOTICES

18. The authority citation for part 319 continues to read as follows:

Authority: 7 U.S.C. 166, 450, 7711-7714, 7718, 7731, 7732, and 7751-7754; 21 U.S.C. 136 and 136a; 7 CFR 2.22, 2.80, and 371.3.

19. In § 319.37-4, footnote 6 is revised to read as follows:

§ 319.37-4 Inspection, treatment, and phytosanitary certificates of inspection.

* * * * *

⁶ The Plant Protection and Quarantine Manual is incorporated by reference at § 300.1 of this chapter.

§ 319.40-7 [Amended]

20. In § 319.40-7, paragraph (d)(1)(i) is amended by removing the citation “§ 300.1” and adding the citation “§ 300.2” in its place.

21. In § 319.56-2h, paragraph (b) is revised to read as follows:

§ 319.56-2h Regulations governing the entry of grapes from Australia.

* * * * *

(b) Authorized treatments. Authorized treatments are listed in the Plant Protection and Quarantine Treatment Manual, which is incorporated by reference at § 300.1 of this chapter.

* * * * *

22. In § 319.56-2i, paragraph (a) is revised to read as follows:

§ 319.56-2i Administrative instructions prescribing treatments for mangoes from Central America, South America, and the West Indies.

(a) Authorized treatments. Treatment with an authorized treatment listed in the Plant Protection and Quarantine Treatment Manual will meet the treatment requirements imposed under § 319.56-2 as a condition for the importation into the United States of mangoes from Central America, South America, and the West Indies. The Plant Protection and Quarantine Treatment Manual is incorporated by reference at § 300.1 of this chapter.

* * * * *

23. In § 319.56-2p, paragraph (f) is revised to read as follows:

§ 319.56-2p Administrative instructions prescribing treatment and relieving restrictions regarding importation of okra from Mexico, the West Indies, and certain countries in South America.

* * * * *

(f) Treatment of okra for pests other than pink bollworm. If, upon examination of okra imported in accordance with paragraphs (c), (d), or (e) of this section, an inspector at the port of arrival finds injurious insects, other than the pink bollworm, that do not exist in the United States or are not widespread in the United States, the okra will remain eligible for entry into the United States only if it is treated for the injurious insects in the physical presence of an inspector in accordance with the Plant Protection and Quarantine Treatment Manual. The Plant Protection and Quarantine Treatment Manual is incorporated by reference at § 300.1 of this chapter. If the treatment authorized by the Plant Protection and Quarantine Treatment Manual is not available, or if no authorized treatment exists, the okra may not be entered into the United States.

24. In § 319.56-2r, paragraph (g)(2) is revised to read as follows:

§ 319.56-2r Administrative instructions governing the entry of apples and pears from certain countries in Europe.

* * * * *

(g) * * *

(2) Authorized treatments are listed in the Plant Protection and Quarantine Treatment Manual, which is incorporated by reference at § 300.1 of this chapter.

* * * * *

25. In § 319.56-2s, paragraph (f)(2) is revised to read as follows:

§ 319.56-2s Administrative instructions governing the entry of apricots, nectarines, peaches, plumcot, and plums from Chile.

* * * * *

(f) * * *

(2) Authorized treatments are listed in the Plant Protection and Quarantine Treatment Manual, which is incorporated by reference at § 300.1 of this chapter.

* * * * *

PART 353-EXPORT CERTIFICATION

26. The authority citation for part 353 continues to read as follows:

Authority: 7 U.S.C. 7711, 7712, 7718, 7751, and 7754; 21 U.S.C. 136 and 136a; 7 CFR 2.22, 2.80, and 371.3.

§ 353.1 [Amended]

27. Section 353.1 is amended as follows:

a. In the definition of Reference Manual A, by removing the citation “§ 300.1” and adding the citation “§ 300.3” in its place.

b. In the definition of Reference Manual B, by removing the citation “§ 300.1” and adding the citation “§ 300.4” in its place.

§ 353.9 [Amended]

28. Section 353.9 is amended as follows:

a. In paragraph (b)(2), the introductory text, by removing the citation “§ 300.1” and adding the citation “§ 300.4” in its place.

b. In paragraph (b)(3), by removing the citation “§ 300.1” and adding the citation “§ 300.3” in its place.

Done in Washington, DC, this 19th day of February 2002.
W. Ron DeHaven,
Acting Administrator, Animal and Plant Health Inspection Service.

[FR Doc. 02-4384 Filed 2-22-02; 8:45 am]

BILLING CODE 3410-34-P